DEPARTMENT OF ENERGY

Office of International Regimes and Agreements; Proposed Subsequent Arrangement

AGENCY: Department of Energy.

ACTION: Notice of Proposed Subsequent Arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM) and the Agreement for Cooperation between the Government of the United States of America and the Government of Norway for Peaceful Uses of Nuclear Energy.

This subsequent arrangement concerns a request for a three-year extension of the current programmatic approval for retransfer of U.S.-obligated irradiated fuel rods between Studsvik Nuclear AB, Sweden and the Institutt for Energiteknikk, Norway. The rods are being transferred for irradiation service, tests and examination, and will be returned to Sweden for further test and disposal. The total shipping amounts will be the same as allowed under the current approval—a maximum of 30,000 grams uranium, 400 grams U-235 and 400 grams plutonium in all shipments combined, with a maximum of 100 grams of plutonium per shipment.

The original programmatic consent was approved in June 2006 (published in the Federal Register June 13, 2006). A one-year extension was approved in January 2007 (published in the Federal Register January 23, 2007). If approved, the third extension, for three years, will extend to 2011. All transactions will be subject to U.S.-Euratom Agreement for Cooperation on Peaceful Uses of Nuclear Energy.

In accordance with Section 131 of the Atomic Energy Act of 1954, as amended, we have determined that this subsequent arrangement will not be inimical to the common defense and security.

This subsequent arrangement will take effect no sooner than 15 days after the date of publication of this notice.

Dated: February 20, 2008.
For the Department of Energy.
Richard Goorevich,
Director, Office of International Regimes and Agreements.

[FR Doc. E8-4215 Filed 3-4-08; 8:45 am]

BILLING CODE 6450-01-P